DEPARTMENT OF HEALTH AND HUMAN SERVICES

Centers for Medicare & Medicaid Services

[Document Identifier: CMS-R-30, CMS-10117, 10118, 10119, 10135, 10136 and CMS-R-206]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Information Collection Requirements in the Hospice Conditions for Coverage and Supporting Regulations at 42 CFR 418.22, 418.24, 418.28, 418.56, 418.58, 418.70, 418.83, 418.96, and 418.100; Use: The information collection requirements contained in the Hospice Conditions for Coverage information collection request (ICR) serve to ensure compliance with the hospice conditions of participation. The State survey agencies utilize the furnished information during the certification and re-certification periods to assist in determining compliance with the statute and regulations. In addition, data collected will be used to produce statistical reports to the Congress, to establish reimbursement rates, and to provide increased information on the hospice industry.; Form Number: CMS-R-30 (OMB#: 0938-0302); Frequency: Reporting—Other—depending on program areas and data requirements; Affected Public: Business or other for-profit, not-for-profit institutions, Federal government; Number of Respondents: 2,874; Total Annual Responses: 2,874; Total Annual Hours: 9,930,912.

2. Type of Information Collection Request: Revision of a currently approved collection; Title of Information Collection: Qualification—Medicare Advantage (MA) Application For Coordinated Care, Private Fee-For-Service, Regional Preferred Provider Organization, Service Area Expansion For Coordinated Care and Private Fee-For-Service Plans, Medical Savings Account Plans ; Use: An entity seeking a contract as an MA organization must be able to provide Medicare's basic benefits plus meet the organizational requirements set out under 42 CFR Part 422. An applicant must demonstrate that it can meet the benefit and other requirements within the specific geographic area it is requesting. The application forms are designed to provide the information needed to determine the health plan's compliance. The regulatory requirements are incorporated into the MA applications. The MA application forms will be used to determine if an entity is eligible to enter into a contract to provide services to Medicare beneficiaries; Form Number: CMS-10117, 10118, 10119, 10135, 10136 (OMB#: 0938-0935); Frequency: Reporting: One time submission; Affected Public: Business or other for-profit, not-for-profit institutions and State, Local or Tribal Government; Number of Respondents: 80; Total Annual Responses: 110; Total Annual Hours: 3,400.

3. Type of Information Collection Request: Extension of a currently approved collection; Title of Information Collection: Information Collection Requirements Referenced in HIPAA, Title 1, for the Group Market, Supporting Regulations at 45 CFR 146.111, 146.115, 146.117, 146.150, 146.152, 146.160, and 146.180, and forms/instructions; Use: The requirements of this information collection will ensure that group health plans and issuers in the group market comply with Health Insurance Portability and Accountability Act of 1996 (HIPAA). These requirements include providing individuals with certificates of creditable coverage, notifying individuals about their status with respect to preexisting condition exclusions, and giving individuals the special enrollment rights to which they are entitled. In addition, this collection gives states and the Federal government the flexibility necessary to enforce these HIPAA requirements.; Form Number: CMS-R-206 (OMB#: 0938-0702); Frequency: Recordkeeping, third party disclosure and reporting: On occasion; Affected Public: Individuals or Households, Business or other for-profit, not-for-profit institutions and Federal, State, Local or Tribal Government; Number of Respondents: 2,800; Total Annual Responses: 37,002,217; Total Annual Hours: 446,679.

To obtain copies of the supporting statement and any related forms for the proposed paperwork collections referenced above, access CMS Web site address at http://www.cms.hhs.gov/PaperworkReductionActof1995, or E-mail your request, including your address, phone number, OMB number, and CMS document identifier, to Paperwork@cms.hhs.gov, or call the Reports Clearance Office on (410) 786-1326.

Written comments and recommendations for the proposed information collections must be mailed or faxed within 30 days of this notice directly to the OMB desk officer: OMB Human Resources and Housing Branch, Attention: Carolyn Lovett, New Executive Office Building, Room 10235, Washington, DC 20503. Fax Number: (202) 395-6974.

Dated: June 1, 2006.
Michelle Shortt,
Director, Regulations Development Group, Office of Strategic Operations and Regulatory Affairs.

[FR Doc. E6-8932 Filed 6-8-06; 8:45 am]

BILLING CODE 4120-01-P